DEFENSE NUCLEAR FACILITIES SAFETY BOARD

[Recommendation 2009-2]

Los Alamos National Laboratory Plutonium Facility Seismic Safety

AGENCY: Defense Nuclear Facilities Safety Board.

ACTION: Notice, recommendation.

SUMMARY: The Defense Nuclear Facilities Safety Board has made a recommendation to the Secretary of Energy pursuant to 42 U.S.C. 2286a(a)(5) which identifies the need to execute both immediate and long-term actions that can reduce the risk posed by a seismic event at the Plutonium Facility at Los Alamos National Laboratory.

DATES: Comments, data, views, or arguments concerning the recommendation are due on or before December 2, 2009.

ADDRESSES: Send comments, data, views, or arguments concerning this recommendation to: Defense Nuclear Faculties Safety Board, 625 Indiana Avenue, NW., Suite 700, Washington, DC 20004-2001.

FOR FURTHER INFORMATION CONTACT: Brian Grosner or Andrew L. Thibadeau at the address above or telephone number (202-694-7000).

John E. Mansfield,
Vice Chairman.

[FR Doc. E9-26304 Filed 10-30-09; 8:45 am]

BILLING CODE 3670-01-P